DEPARTMENT OF ENERGY

National Nuclear Security Administration

Availability of the Draft Environmental Impact Statement for the Proposed Relocation of Technical Area 18 Capabilities and Materials

AGENCY: Department of Energy, National Nuclear Security Administration.

ACTION: Notice of availability and public hearings.

SUMMARY: The National Nuclear Security Administration, a separately organized agency within the Department of Energy (DOE), announces the availability of the Draft Environmental Impact Statement (EIS) for the Proposed Relocation of Technical Area 18 Capabilities and Materials (hereafter referred to as the TA-18 Relocation Draft EIS), and the dates and locations for public hearings to receive comments on the TA-18 Relocation Draft EIS. The principal activities at TA-18 involve research, design, development, construction, and application of experiments on nuclear criticality. The TA-18 Relocation Draft EIS evaluates the environmental impacts associated with relocating the TA-18 capabilities and materials to the following alternative locations: (1) A different site at Los Alamos National Laboratory (LANL) (the preferred alternative) at Los Alamos, New Mexico; (2) the Nevada Test Site (NTS) near Las Vegas, Nevada; (3) the Sandia National Laboratory (SNL) at Albuquerque, New Mexico; and (4) the Argonne National Laboratory-West (ANL-W) near Idaho Falls, Idaho. The TA-18 Relocation Draft EIS also evaluates the alternative of upgrading the existing facilities at TA-18, and the no-action alternative of maintaining the missions in the existing TA-18 facilities without upgrades.

DATES: Comments on the TA-18 Relocation Draft EIS are invited from the public. To ensure consideration in the preparation of the TA-18 Relocation Final EIS, comments must be received or postmarked by October 5, 2001. Late comments will be considered to the extent practicable. Public hearings to discuss issues and receive comments on the TA-18 Relocation Draft EIS will be held in the vicinity of sites that may be affected by the proposed action. The public hearings, to be held September 11-19, 2001, will provide the public with an opportunity to present comments, ask questions, and discuss concerns with DOE/NNSA officials regarding the TA-18 Relocation Draft EIS. The locations, dates, and times for these public hearings are identified in the Supplementary Information.

ADDRESSES: A copy of the TA-18 Relocation Draft EIS or its Summary may be obtained upon request in writing (U.S. Department of Energy, TA-18 Relocation Draft EIS, Attn: Mr. Jay Rose, DP-42, 1000 Independence Avenue, SW., Washington, DC 20585), by fax (202-586-0467), by toll-free telephone (1-866-357-4345), or by E-mail (James.Rose@ns.doe.gov). Specific information regarding the public hearings can also be obtained by the means described above. Comments concerning the TA-18 Relocation Draft EIS can also be submitted by the means described above. Please mark envelopes, faxes, and E-mail: “TA-18 Relocation Draft EIS Comments.”

FOR FURTHER INFORMATION CONTACT: For general information on the NNSA NEPA process, please contact: Mr. Henry Garson, NEPA Compliance Officer for Defense Programs, U.S. DOE/NNSA, 1000 Independence Avenue, SW., Washington, DC 20585; or telephone 1-800-832-0885, ext. 30470. For general information on the DOE NEPA process, please contact: Ms. Carol M. Borgstrom, Director, Office of NEPA Policy and Compliance (EH-42), U.S. DOE, 1000 Independence Avenue, SW., Washington, DC 20585, telephone 202-586-4600, or leave a message at 1-800-472-2756.

SUPPLEMENTARY INFORMATION: The NNSA is responsible for providing the Nation with nuclear weapons, ensuring the safety and reliability of those nuclear weapons, and supporting programs that reduce global nuclear proliferation. These missions are accomplished through the use of a core team of highly trained nuclear experts. One of the major training facilities for these experts is located at TA-18 at LANL. The principal TA-18 activities are the design, construction, research, development, and applications of experiments on nuclear criticality.

The TA-18 buildings and infrastructure are near the end of their useful life, and action is required to assess alternatives for continuing these activities for the next 25 years. The TA-18 Relocation Draft EIS identifies siting options to assist the NNSA in determining a long-range strategy for maintaining nuclear criticality missions, infrastructure, and expertise currently residing at TA-18.

The TA-18 Relocation Draft EIS evaluates the potential direct, indirect, and cumulative environmental impacts associated with relocating the TA-18 mission to the following DOE sites: (1) A different site at LANL (the preferred alternative); (2) NTS; (3) SNL; and (4) ANL-W. The TA-18 Relocation Draft EIS also analyzes upgrading the TA-18 facilities at LANL and the no-action alternative of maintaining the operations at the current TA-18 location without upgrades.

The NNSA is inviting members of Congress, American Indian Tribal Governments, state and local governments, other Federal agencies, and the general public to provide comments on the TA-18 Relocation Draft EIS. The comment period runs until October 5, 2001. The Department will consider all comments received or postmarked by October 5, 2001, in preparing the TA-18 Relocation Final EIS. Comments postmarked after that date will be considered to the extent practicable. As part of the public comment period on the TA-18 Relocation Draft EIS, public hearings will be held as follows:

Argonne National Laboratory— West—September 11, 2001, 7:00 p.m.-10:00 p.m., The Shilo Inn, 780 Lindsay Blvd., Idaho Falls, ID 83402.

Nevada Test Site—September 13, 2001, 7:00 p.m.-10:00 p.m., U.S. DOE Nevada Operations Office Auditorium, 232 Energy Way, North Las Vegas, NV 89030.

Los Alamos National Laboratory—September 18, 2001, 7:00 p.m.-10:00 p.m., Fuller Lodge, 2132 Central Avenue, Los Alamos, NM 87544.

Sandia National Laboratory—September 19, 2001, 7:00 p.m.-10:00 p.m., Albuquerque Convention Center, 401 Second Street, NW., Albuquerque, NM 87102.

The TA-18 Relocation Final EIS is expected to be completed by December 31, 2001. A Record of Decision would be completed no sooner than 30 days after the TA-18 Relocation Final EIS is issued.

Signed in Washington, D.C. this 14th day of August, 2001.
Kathleen A Carlson,
Acting Deputy Administrator for Defense Programs, National Nuclear Security Administration, Department of Energy.

[FR Doc. 01-20899 Filed 8-17-01; 8:45 am]

BILLING CODE 6450-01-P